DEPARTMENT OF THE INTERIOR

Bureau of Land Management

DEPARTMENT OF AGRICULTURE

Forest Service

[WO-300-9131-PP]

Notice of Availability of the Final Programmatic Environmental Impact Statement for Leasing of Geothermal Resources in Eleven Western United States and Alaska, Including Proposed Amendments to Selected Land Use Plans

AGENCY: Bureau of Land Management, Interior; and U.S. Forest Service, Agriculture.

ACTION: Notice of Availability (NOA).

SUMMARY: In accordance with section 202 of the National Environmental Policy Act of 1969 (NEPA) (42 U.S.C. 4321 et seq.), the Council on Environmental Quality's regulations implementing NEPA (40 CFR 1500-1508), and applicable agency guidance, a Final Programmatic Environmental Impact Statement (PEIS) has been prepared on the leasing of geothermal resources in 11 Western United States (U.S.) and Alaska. The Department of the Interior, Bureau of Land Management (BLM) and the Department of Agriculture, Forest Service (FS) are co-lead agencies for the PEIS. The Department of Energy (DOE) participated as a core team member. The PEIS has been developed, in part, to support the amendment of 122 resource management plans (RMP) covering public lands managed by the BLM under the Federal Land Policy and Management Act of 1976 (FLPMA).

In accordance with the Energy Policy Act of 2005 (Pub. L. 109-58, August 8, 2005), the goal of the proposed action is to make geothermal leasing decisions on pending lease applications submitted prior to January 1, 2005, and to facilitate geothermal leasing decisions on other existing and future lease applications and nominations on the Federal mineral estate. The planning area encompasses about 530 million acres of land with the potential for geothermal development in Alaska, Arizona, California, Colorado, Idaho, Montana, New Mexico, Nevada, Oregon, Utah, Washington, and Wyoming.

DATES: The proposed RMP amendments and Final PEIS for Leasing of Geothermal Resources will be available for review for 30 days following the date the Environmental Protection Agency (EPA) publishes its Notice of Availability in the Federal Register.

FOR FURTHER INFORMATION CONTACT: Jack G. Peterson, BLM Project Manager at (208) 373-4048 (Jack_G_Peterson@blm.gov), Bureau of Land Management, 1387 S. Vinnell Way, Boise, Idaho 83706 or Ivette Torres, FS Program Manager at (703) 605-4792 (ietorres@fs.fed.us), Forest Service, Mail Stop 1126 RPC 5th, 1400 Independence Ave., SW., Washington, DC 20250 or visit the PEIS Web site at http://www.blm.gov/Geothermal_EIS.

ADDRESSES: A copy of the proposed RMP amendments and Final PEIS is available for review via the Internet from a link at http://www.blm.gov/Geothermal_EIS. Hardcopies are available for review at BLM State Offices and Field Offices. Electronic (on CD-ROM) and paper copies may also be obtained by contacting Jack Peterson at the address and phone number listed in FOR FURTHER INFORMATION CONTACT. The proposed RMP amendments and Final PEIS consist of three volumes: Volume I contains the proposed RMP amendments and associated programmatic analyses; Volume II provides the specific environmental analysis for the pending lease applications; and Volume III contains the appendices, including responses to public comments on the Draft PEIS.

SUPPLEMENTARY INFORMATION: In accordance with the Energy Policy Act of 2005, the BLM and FS propose to facilitate geothermal leasing of the Federal mineral estate on lands administered by the BLM (termed “public lands”) and by the FS (National Forest System [NFS] lands) that have geothermal potential in the 11 Western States and Alaska. Under the proposal, the BLM and FS would do the following: (1) Identify public and NFS lands with geothermal potential as being open or closed to leasing; (2) on public lands, identify lands that are administratively closed or open to leasing and development, and under what conditions; (3) develop a comprehensive list of stipulations, best management practices (BMPs), and procedures to serve as consistent guidance for future geothermal leasing and development on public and NFS lands; (4) amend BLM RMPs to adopt the resource allocations, stipulations, BMPs, and procedures; and (5) provide FS consent, if applicable, to issue or deny geothermal lease applications pending as of January 1, 2005, on public and NFS lands.

The need for the action is to: (1) Issue decisions on pending lease applications in accordance with the Energy Policy Act of 2005; (2) address other provisions of the Energy Policy Act of 2005, respond to other policy directives calling for clean and renewable energy (such as state renewable portfolio standards), and meet the increasing energy demands of the Nation; and (3) facilitate geothermal leasing decisions on other existing and future lease applications and nominations on the Federal mineral estate. The purpose of the action is to: (1) Complete processing active pending geothermal lease applications; (2) amend BLM land use plans to allocate lands with geothermal potential as being closed or open with minor to major constraints to leasing; and (3) provide suitable information to the FS to facilitate its subsequent consent decisions for BLM leasing on NFS lands.

Over 530 million acres of the Western U.S. and Alaska have been identified as potentially containing geothermal resources suitable for commercial electrical generation and other direct uses, such as heating. Much of the resource base is held in the Federal mineral estate, for which the BLM has the delegated authority for processing and issuing geothermal leases. The BLM is prohibited from issuing leases on statutorily closed lands (see 43 CFR 3201.11), including Wilderness Areas, wilderness study areas, lands contained in a unit of the National Park System, National Recreation Areas, Indian trust or restricted lands, and the Island Park Geothermal Areas (around the border of Yellowstone National Park). Other areas closed to leasing by existing laws, regulations, and Executive Orders include National Monuments and designated wild rivers under the Wild and Scenic Rivers Act.

Under the Proposed Action, the BLM would also apply discretionary closures to: (1) Areas of Critical Environmental Concern where the BLM determines that geothermal leasing and development would be incompatible with the purposes for which the ACEC was designated, or that have management plans that expressly preclude new leasing; (2) National Conservation Areas, except the California Desert Conservation Area; and (3) other lands in the BLM's National Landscape Conservation System, such as historic and scenic trails.

The Notice of Intent to prepare the PEIS, published in the Federal Register (72 FR 32679) on June 13, 2007, initiated the public scoping process and invited the public to provide comments on the scope and objectives of the PEIS. During the scoping process, the BLM and FS held public scoping meetings in ten cities across the Western U.S., including Alaska. Over 170 individuals attended the scoping meetings.

The NOA announcing the RMP amendments and Draft PEIS was published in the Federal Register on June 13, 2008. The public was given the opportunity to provide comments on the RMP amendments and Draft PEIS from June 13, 2008, to September 19, 2008. The BLM and FS held 13 public meetings to collect comments and answer questions on the RMP amendments and Draft PEIS. Meetings were held in Reno, Nevada; Salt Lake City, Utah; Tucson, Arizona; Albuquerque, New Mexico; Denver, Colorado; Cheyenne, Wyoming; Helena, Montana; Boise, Idaho; Seattle, Washington; Portland, Oregon; Sacramento, California; Anchorage, Alaska; and Fairbanks, Alaska. About 220 people attended the meetings. The RMP amendments and Draft PEIS were posted on the project Web site at http://www.blm.gov/Geothermal_EIS and provided on request as a CD or printed document.

Sixty-three individuals or organizations submitted comment letters with about 500 unique comments on the RMP amendments and Draft PEIS. In addition, two form letters were received. One form letter generated over 700 copies pertaining to development in areas with sensitive resources, such as National Parks. The second form letter generated over 20 copies about development in the Medicine Lake, California, area.

Public comments on the RMP amendments and Draft PEIS have been incorporated into Volume 3 of the PEIS. The public provided input on a wide variety of issues. The most prevalent comment pertained to geothermal development in areas with sensitive resources, followed by water resources and compatibility with other resource uses, such as recreation and grazing.

Public comments on the RMP amendments and Draft PEIS were considered and incorporated, as appropriate, into the proposed RMP amendments and Final PEIS. Public comments resulted in the addition of clarifying text for the analysis and proposed action, but did not significantly change the proposed action.

Approximately 143 million acres of public (BLM) lands and 104 million acres of NFS lands have geothermal potential. The proposed RMP amendments and Final PEIS proposes to identify approximately 118 million acres of public lands and 79 million acres of NFS lands as available to potential geothermal leasing subject to existing laws, regulations, formal orders, stipulations attached to the lease form, and terms and conditions of the standard lease form. To protect special resource values, the BLM and FS have developed a comprehensive list of stipulations, conditions of approval, and BMPs.

In addition, a reasonable foreseeable development (RFD) scenario was developed to predict future geothermal development trends. The RFD scenario in the proposed RMP amendments and Final PEIS estimates a potential for 5,540 megawatts (MW) of new electric generation capacity from 111 new geothermal power plants in the 11 Western States and Alaska by 2015. It also estimated an additional 6,600 MW from another 133 plants by 2025. The RFD scenario recognizes the great potential for direct uses, including up to 270 western communities being able to develop geothermal resources for heating buildings to offset the use of conventional energy sources.

As noted above, the BLM manages the public lands pursuant to FLPMA. Under FLPMA, in order for geothermal resource leasing and development to take place on the public lands that BLM manages, such activities must be provided for in the land use plan (also termed resource management plan or RMP) for the affected administrative unit. Under the Proposed Action, the BLM would amend 122 RMPs to adopt the allocations, stipulations, best management practices, and procedures analyzed in the PEIS. Therefore, in most cases, the BLM would be able to issue geothermal leases on the basis of the analysis contained in this document. The FS would use the document to facilitate subsequent consent decisions for leasing on NFS lands. The following BLM RMPs and Management Framework Plans (MFPs) (provided in Chapter 2 of the Final PEIS) are proposed for amendment:

Table 1—BLM Land Use Plans Proposed for Amendment Under the PEIS
State | Land use plan(s)
ALASKA | Central Yukon RMP, Kobuk-Seward RMP, Ring of Fire RMP.
ARIZONA | Arizona Strip RMP, Kingman RMP, Lake Havasu RMP, Lower Gila North MFP, Lower Gila South RMP, Phoenix RMP, Safford RMP, Yuma RMP.
CALIFORNIA | Alturas RMP, Arcata RMP, Bishop RMP, Caliente RMP, Cedar Creek/Tule Mountain Integrated RMP, E. San Diego County RMP, Eagle Lake RMP, Headwaters RMP, Hollister RMP, Redding RMP, S. Diablo Mountain Range and Central Coast RMP, South Coast RMP, Surprise RMP, West Mojave RMP.
COLORADO | Glenwood Springs RMP, Grand Junction RMP, Gunnison RMP, Kremmling RMP, Little Snake RMP, Northeast RMP, Royal Gorge RMP, San Juan/San Miguel RMP, Uncompahgre Basin RMP, White River RMP.
IDAHO | Bennett Hills/Timmerman Hills MFP, Big Desert MFP, Big Lost MFP, Bruneau MFP, Cascade RMP, Cassia RMP, Challis RMP, Chief Joseph MFP, Jarbidge RMP, Kuna MFP, Lemhi RMP, Little Lost-Birch MFP, Magic MFP, Malad MFP, Medicine Lodge RMP, Monument RMP, Owyhee RMP, Pocatello RMP, Sun Valley MFP, Twin Falls MFP.
MONTANA | Big Dry RMP, Billings Resource Area RMP, Dillon RMP, Garnet Resource Area RMP, Judith Valley Phillips RMP, North Headwaters RMP, Powder River Resource Area RMP, West HiLine RMP.
NEVADA | Carson City Consolidated RMP, Elko RMP, Las Vegas RMP, Paradise-Denio MFP, Shoshone-Eureka RMP, Sonoma-Gerlach MFP, Tonopah RMP, Wells RMP.
NEW MEXICO | Carlsbad RMP, Farmington RMP, MacGregor Range RMP, Mimbres RMP, Rio Puerco RMP, Roswell RMP, Socorro RMP, Taos RMP, White Sands RMP.
OREGON | Brothers/LaPine RMP, Eugene District RMP, John Day River MP, John Day RMP, Lower Deschutes RMP, Medford RMP, Roseburg RMP, Salem RMP, Three Rivers RMP, Two Rivers RMP.
UTAH | Book Cliffs MFP, Box Elder RMP, Cedar Beaver Garfield Antimony RMP, Diamond Mountain RMP, Henry Mountain MFP, House Range Resource Area RMP, Iso-tract MFP, Mountain Valley MFP, Paria MFP, Park City MFP, Parker Mountain MFP, Pinyon MFP, Pony Express RMP, Randolph MFP, St. George (formerly Dixie) RMP, Vermilion MFP, Warm Springs Resource Area RMP, Zion MFP.
WASHINGTON | Spokane RMP.
WYOMING | Big Horn Basin RMP, Buffalo RMP, Cody RMP, Grass Creek RMP, Great Divide RMP, Green River RMP, Kemmerer RMP, Lander RMP, Newcastle RMP, Pinedale RMP, Platte River RMP, Snake River RMP, Waskakie RMP.

In addition to the Proposed Action, the PEIS evaluates two other alternatives: The No Action Alternative and an alternative termed Leasing Near Transmission Lines. Under the No Action Alternative, no land use plans would be amended. Therefore, lease applications would continue to be evaluated on a case-by-case basis and would require additional environmental review and possible land use plan amendments.

The Leasing Near Transmission Lines Alternative was developed based on input from scoping. Under this alternative, the scope of lands considered for leasing for commercial electrical generation would be limited to those lands that are near transmission lines that currently exist or are under development. While this alternative minimizes the potential footprint of tie-in transmission lines from power plants to distribution lines, it would limit the potential for geothermal energy generation.

Based on analysis within the PEIS and public comments on the Draft PEIS, the BLM has identified the Proposed Action as their preferred alternative.

The BLM initiated activities to coordinate and consult with the governors of each of the 12 states addressed in the PEIS and with state agencies. Prior to the issuance of a record of decision approving the land use plan amendments, the governor of each affected state will be given the opportunity to identify any inconsistencies between the proposed land use plan amendments and state or local plans and to provide recommendations in writing.

Because developing this and other alternative energy resources is of strategic importance in enhancing the Nation's domestic energy supplies, the Assistant Secretary, Land and Minerals Management, in the Department of the Interior is the responsible official for these proposed BLM RMP amendments. The FLPMA and its implementing regulations provide land use planning authority to the Secretary of the Interior, as delegated to this Assistant Secretary. The Assistant Secretary, Land and Minerals Management will be approving these proposed RMP amendments. Therefore, there will be no administrative review (protest) of the proposed amendments under the BLM or Departmental regulations (43 CFR 1610.5-2). The Assistant Secretary, Land and Minerals Management, is the responsible official for the decision (Record of Decision) to be made with respect to the BLM RMP amendments.

In addition to the programmatic analysis pertaining to the land use planning process, the PEIS provides environmental analysis for 19 pending leases in 7 geographical locations in Alaska, California, Nevada, Oregon, and Washington that were pending as of January 1, 2005. The alternatives evaluated for this analysis are intended to support FS decision making as to whether or not to provide consent to the BLM lease decisions, and to support BLM decision making as to whether to issue or deny the lease.

Dated: October 3, 2008.
Henri Bisson,
Deputy Director, Bureau of Land Management.

Gloria Manning,
Associate Deputy Chief, National Forest System, U.S. Forest Service.

[FR Doc. E8-25294 Filed 10-23-08; 8:45 am]

BILLING CODE 4310-84-P